DEPARTMENT OF COMMERCE

International Trade Administration

[C-570-926]

Sodium Nitrite From the People's Republic of China: Continuation of Countervailing Duty Order

AGENCY: Enforcement and Compliance, International Trade Administration, Department of Commerce.

SUMMARY: As a result of the determinations by the Department of Commerce (the Department) and the International Trade Commission (the ITC) that revocation of the countervailing duty (CVD) order on sodium nitrite from the People's Republic of China (PRC) would likely lead to a continuation or recurrence of net countervailable subsidies and material injury to an industry in the United States, the Department is publishing this notice of continuation of the CVD order.

DATES: Effective Date: September 5, 2014.

FOR FURTHER INFORMATION CONTACT: Jacqueline Arrowsmith, AD/CVD Operations, Office VII, Enforcement and Compliance, International Trade Administration, U.S. Department of Commerce, 14th Street and Constitution Avenue NW., Washington, DC 20230; telephone (202) 482-5255.

SUPPLEMENTARY INFORMATION:

Background

On July 1, 2013, the Department initiated a sunset review of the order, pursuant to section 751(c) of the Tariff Act of 1930, as amended (the Act).¹ As a result of its review, the Department determined that revocation of the order on sodium nitrite from the PRC would likely lead to a continuation or recurrence of net countervailable subsidies and, therefore, notified the ITC of the net countervailable subsidy likely to prevail should the order be revoked.² On February 4, 2014, the ITC published its determination, pursuant to section 751(c) of the Act that revocation of the CVD order on sodium nitrite from the PRC would lead to a continuation or recurrence of material injury to an industry in the United States within a reasonably foreseeable time.³

¹ See Initiation of Five-Year (“Sunset”) Reviews, 78 FR 39256 (July 1, 2013).

² See Sodium Nitrite From the People's Republic of China: Final Results of the From the People's Republic of the Expedited First Sunset Review of the Countervailing Duty Order, 78 FR 69646 (November 20, 2013).

³ See Sodium Nitrite From China and Germany (Investigation Nos. 701-TA-453 and 731-TA-1136), 79 FR 6628 (February 4, 2014).

Scope of the Order

The merchandise covered by this order is sodium nitrite in any form, at any purity level. In addition, the sodium nitrite covered by this order may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0. For purposes of the scope of this order, the narrative description is dispositive, not the tariff heading, CAS registry number or CAS name, which are provided for convenience and customs purposes.

Continuation of the Order

As a result of the determinations by the Department and the ITC that revocation of the CVD order would likely lead to a continuation or recurrence of net countervailable subsidies and material injury to an industry in the United States, pursuant to Section 751(d)(2) of the Act, the Department hereby orders the continuation of the CVD order on sodium nitrite from the PRC. U.S. Customs and Border Protection will continue to collect CVD cash deposits at the rates in effect at the time of entry for all imports of subject merchandise. The effective date of the continuation of the order will be the date of publication in the Federal Register of this notice of continuation. Pursuant to section 751(c)(2) of the Act, the Department intends to initiate the next five-year review of the order not later than 30 days prior to the effective date of the continuation.

The five-year sunset review and this notice are in accordance with section 751(c) of the Act and published pursuant to section 777(i)(1) of the Act and 19 CFR 351.218(f)(4).

Dated: August 28, 2014.
Paul Piquado,
Assistant Secretary for Enforcement and Compliance.

[FR Doc. 2014-21210 Filed 9-4-14; 8:45 am]

BILLING CODE 3510-DS-P